DEPARTMENT OF TRANSPORTATION

Federal Aviation Administration

14 CFR Part 39

[Docket No. 2002-NM-09-AD]

RIN 2120-AA64

Airworthiness Directives; Airbus Model A330 Series Airplanes

AGENCY: Federal Aviation Administration, DOT.

ACTION: Notice of proposed rulemaking (NPRM).

SUMMARY: This document proposes the adoption of a new airworthiness directive (AD) that is applicable to all Airbus Model A330 series airplanes. This proposal would require replacement of the elevator servo-controls with new servo-controls when the existing parts have reached their operational life limit. This action is necessary to prevent hydraulic leakage and internal damage of the elevator servo-controls due to cracks in the end caps and along the barrel. These conditions could result in a reduction in the elevator's protection against vibration or loss of the hydraulic circuit, and consequent reduced controllability of the airplane. This action is intended to address the identified unsafe condition.

DATES: Comments must be received by October 20, 2003.

ADDRESSES: Submit comments in triplicate to the Federal Aviation Administration (FAA), Transport Airplane Directorate, ANM-114, Attention: Rules Docket No. 2002-NM-09-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2002-NM-09-AD” in the subject line and need not be submitted in triplicate. Comments sent via the Internet as attached electronic files must be formatted in Microsoft Word 97 or 2000 or ASCII text.

Information pertaining to this proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-09-AD.” The postcard will be date stamped and returned to the commenter.

Availability of NPRMs

Any person may obtain a copy of this NPRM by submitting a request to the FAA, Transport Airplane Directorate, ANM-114, Attention: Rules Docket No. 2002-NM-09-AD, 1601 Lind Avenue, SW., Renton, Washington 98055-4056.

Discussion

The Direction Générale de l'Aviation Civile (DGAC), which is the airworthiness authority for France, notified the FAA that an unsafe condition may exist on all Airbus Model A330 series airplanes. The DGAC advises that the operational life limits for the servo-controls located on the elevator, which are listed in Revision 8, chapter 05-11-00, configuration 1, of the Aircraft Maintenance Manual (AMM), dated September 15, 1999, are not addressed by section 9.1 of the Airworthiness Limitations section, which replaces chapter 05-11-00 of the AMM. Thus, it is possible that elevator servo-controls that have reached their operational life limit may remain installed on an airplane. Elevator servo-controls that have exceeded their operational life limits may develop cracks in the end caps and along the barrel, which could lead to hydraulic leakage and internal damage within the servo-control. This condition, if not corrected, could result in a reduction in the elevator's protection against vibration or loss of the hydraulic circuit, and consequent reduced controllability of the airplane.

Explanation of Action Taken by the DGAC

The DGAC issued French airworthiness directive 2001-545(B), dated November 14, 2001, to establish operational life limits for the elevator servo-controls. The French airworthiness directive requires replacement of the elevator servo-controls with new servo-controls when the operational life limit for the servo-controls has been reached.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed AD

Since an unsafe condition has been identified that is likely to exist or develop on other airplanes of the same type design registered in the United States, the proposed AD would require replacement of the elevator servo-controls with new servo-controls when the servo-controls have reached their operational life limit.

Difference Between French Airworthiness Directive and Proposed AD

The compliance times in French airworthiness directive 2001-545(B) are based on the mode in which the elevator servo-controls are operated—active or damping mode. The FAA finds that, as all elevator servo-controls have the same part number and are interchangeable, it is not possible to readily trace the mode of operation of an elevator servo-control. Therefore, the compliance times in this proposed AD are based on the servo-control part number and the number of flight hours or flight cycles, as applicable, since the servo-control was new or overhauled, regardless of the mode of operation of the elevator servo-control. We have informed the DGAC of the compliance times we intend to use in this proposed AD.

Cost Impact

We estimate that 9 airplanes of U.S. registry would be affected by this proposed AD, that it would take approximately 7 work hours per airplane, per replacement cycle, to accomplish the proposed actions, and that the average labor rate is $65 per work hour. Required parts would be provided at no charge to operators. Based on these figures, the cost impact of the proposed AD on U.S. operators is estimated to be $4,095, or $455 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-09-AD.

Applicability: All Model A330 series airplanes, certificated in any category.

Compliance: Required as indicated, unless accomplished previously.

To prevent hydraulic leakage and internal damage of the elevator servo-controls due to cracks in the end caps and along the barrel, which could result in a reduction in the elevator's protection against vibration or loss of the hydraulic circuit, and consequent reduced controllability of the airplane, accomplish the following:

Repetitive Replacement

(a) Replace each elevator servo-control having a part number listed in the “Part Numbers” column of Table 1 of this AD with a new servo-control having the same part number. Do the initial replacement prior to the accumulation of the number of total flight hours or flight cycles on the servo-control, as applicable, specified in the “Life Limit” column of Table 1 of this AD, or within 60 days after the effective date of this AD, whichever is later. Thereafter, repeat the replacement at intervals not to exceed the number of total flight hours or flight cycles, as applicable, specified in the “Life Limit” column of Table 1 of this AD.

Table 1.—Part Numbers and Replacement Life Limits
Airplane model | Part numbers | Life limit
A330-301, -321, and -322 airplanes, on which Airbus Modification 43148 (Service Bulletin A330-27-3026) has not been accomplished | SC4800-2, SC4800-3, SC4800-4; any Amendment level | 4,000 total flight hours since the servo-control was new.
A330 series airplanes other than those identified above in this table | SC4800-2; SC4800-2, Amendment A | 3,500 total flight cycles since the servo-control was new or overhauled to like-new condition.
A330 series airplanes other than those identified above in this table | SC4800-2, Amendment B or C; SC4800-3; SC4800-6 | 7,700 total flight cycles since the servo-control was new or overhauled to like-new condition.
A330 series airplanes other than those identified above in this table | SC4800-2, Amendment D, E, F, or G; SC4800-4, Amendment H; SC4800-7; SC4800-7A; SC4800-8; SC4800-9 | 32,000 total flight cycles since the servo-control was new or overhauled to like-new condition.

Note 1: The compliance times in Table 1 of this AD are based on the servo-control part number and the number of flight hours or flight cycles, as applicable, since the servo-control was new or overhauled, regardless of the mode of operation—active or damping—of the elevator servo-control.

Alternative Methods of Compliance

(b) In accordance with 14 CFR 39.19, the Manager, International Branch, ANM-116, FAA, is authorized to approve alternative methods of compliance for this AD.

Note 2: The subject of this AD is addressed in French airworthiness directive 2001-545(B), dated November 14, 2001.

Issued in Renton, Washington, on September 12, 2003.
Ali Bahrami,
Acting Manager, Transport Airplane Directorate, Aircraft Certification Service.

[FR Doc. 03-23831 Filed 9-17-03; 8:45 am]

BILLING CODE 4910-13-P